DEPARTMENT OF THE INTERIOR

Fish and Wildlife Service

50 CFR Part 92

RIN 1018-AU59

Migratory Bird Subsistence Harvest in Alaska; Harvest Regulations for Migratory Birds in Alaska During the 2007 Season; Correction

AGENCY: Fish and Wildlife Service, Interior.

ACTION: Final rule; correction.

SUMMARY: We, the Fish and Wildlife Service (Service), are correcting the DATES section of a final rule that appeared in the Federal Register of April 11, 2007 (72 FR 18317). The final rule published harvest regulations for migratory bird subsistence hunting in Alaska for the 2007 season.

DATES: This correction is effective August 29, 2007.

FOR FURTHER INFORMATION CONTACT: Fred Armstrong, (907) 786-3887, or Donna Dewhurst, (907) 786-3499, U.S. Fish and Wildlife Service, 1011 E. Tudor Road, Mail Stop 201, Anchorage, AK 99503.

SUPPLEMENTARY INFORMATION: We published a final rule in the Federal Register of Wednesday, April 11, 2007 (72 FR 18317) that published harvest regulations for migratory bird subsistence hunting in Alaska for the 2007 season.

In that rule, the DATES section incorrectly established an August 31, 2007, expiration date for amendments to subpart A of 50 CFR part 92. Subpart A of 50 CFR part 92 sets forth the general provisions for migratory bird subsistence harvest in Alaska, and we intended the amendments we made to subpart A of 50 CFR part 92 to be permanent.

Therefore, in rule FR Doc. E7-6667 published on April 11, 2007 (72 FR 18318), make the following correction. On page 18318, in the first column, revise the DATES section to read:

DATES: The amendments to subparts A and C of 50 CFR part 92 become effective May 11, 2007. The amendments to subpart D of 50 CFR part 92 are effective April 11, 2007, through August 31, 2007.

Dated: August 23, 2007.
Sara Prigan,
Federal Register Liaison, Fish and Wildlife Service.

[FR Doc. E7-17132 Filed 8-28-07; 8:45 am]

BILLING CODE 4310-55-P